DEPARTMENT OF AGRICULTURE

Rural Business-Cooperative Service

Inviting Applications for the Rural Economic Development Loan and Grant Programs for Fiscal Year 2015

AGENCY: Rural Business-Cooperative Service, USDA.

ACTION: Notice.

SUMMARY: This Notice is to invite applications for loans and grants under the Rural Economic Development Loan and Grant (REDLG) programs pursuant to 7 CFR part 4280, subpart A for fiscal year (FY) 2015. Funding to support $38.6 million in loans and $9.2 million in grants is currently available. The commitment of program dollars will be made to applicants of selected responses that have fulfilled the necessary requirements for obligation.

All applicants are responsible for any expenses incurred in developing their applications.

DATES: Application Deadline: Completed applications must be received in the United States Department of Agriculture (USDA) Rural Development State Office no later than 4:30 p.m. (local time) on the last business day of each month to be considered for funding in the following month in FY 2015.

ADDRESSES: Submit applications in paper format to the USDA Rural Development State Office for the State where the project is located. A list of the USDA Rural Development State Office contacts can be found at: http://www.rurdev.usda.gov/StateOfficeAddresses.html.

FOR FURTHER INFORMATION CONTACT: Kristi Kubista-Hovis at (202) 815-1589, Kristi.Kubista-Hovis@wdc.usda.gov, and Cindy Mason at (202) 690-1433, Cindy.Mason@wdc.usda.gov. Please contact the USDA Rural Development State Office in the State in which the project will be located.

Overview

Solicitation Opportunity Type: Rural Economic Development Loans and Grants.

Announcement Type: Initial Announcement.

Catalog of Federal Domestic Assistance Number: 10.854.

Dates: Application Deadline: Completed applications must be received in the USDA Rural Development State Office no later than 4:30 p.m. (local time) on the last business day of each month to be considered for funding in the following month in FY 2015.

I. Funding Opportunity Description

A. Purpose of the Program. The purpose of the program is to promote rural economic development and job creation projects.

B. Statutory Authority. These programs are authorized under 7 U.S.C. 940c and 7 CFR part 4280, subpart A. Assistance provided to rural areas, as defined, under this program may include business startup costs, business expansion, business incubators, technical assistance feasibility studies, advanced telecommunications services and computer networks for medical, educational, and job training services, and community facilities projects for economic development. Awards are made on a competitive basis using specific selection criteria contained in 7 CFR part 4280, subpart A. Information required to be in the application includes an SF-424, “Application for Federal Assistance;” a Resolution of the Board of Directors; AD-1047, “Debarment/Suspension Certification;” Assurance Statement for the Uniform Act; Restrictions on Lobbying, AD-1049, “Certification Regarding Drug-Free Workplace Requirements;” Form RD 400-1, “Equal Opportunity Agreement;” Form RD 400-4, “Assurance Agreement;” Seismic Certification (if construction); paperwork required in accordance with 7 CFR 1940, subpart G, “Environmental Program.” If the proposal involves new construction; large increases in employment; hazardous waste; a change in use, size, capacity, purpose or location from an original facility; or is publicly controversial, the following is required: Form RD 1940-20, “Request for Environmental Information;” RUS Form 7, “Financial and Statistical Report;” and RUS Form 7a, “Investments, Loan Guarantees, and Loans,” or similar information; and written narrative of project description. Applications will be tentatively scored by the State Offices and submitted to the National Office for review.

C. Definition of Terms. The definitions applicable to this Notice are published at 7 CFR 4280.3.

D. Application Awards. The Agency will review, evaluate, and score applications received in response to this Notice based on the provisions found in 7 CFR part 4280, subpart A, and as indicated in this Notice. However, the Agency advises all interested parties that the applicant bears the burden in preparing and submitting an application in response to this Notice whether or not funding is appropriated for these programs in FY 2015.

II. Award Information

Type of Awards: Loans and Grants.

Fiscal Year Funds: FY 2015.

Available Funds: Loans: $38.6 million; Grants: $9.2 million.

Maximum Award: The Agency anticipates the following maximum amounts per award: Loans—$1,000,000; Grants—$300,000.

Application Dates: The last business day of each month to be considered for funding in the following month in FY 2015.

Award Dates: The last business day of the month following the month in which application was received. Applications will be received monthly.

III. Eligibility Information

A. Eligible Applicants

Loans and grants may be made to any entity that is identified by USDA Rural Development as an eligible borrower under the Rural Electrification Act of 1936, as amended (Act). In accordance with 7 CFR 4280.13, applicants that are not delinquent on any Federal debt or otherwise disqualified from participation in these programs are eligible to apply. An applicant must be eligible under 7 U.S.C. 940c. Notwithstanding any other provision of law, any former Rural Utilities Service borrower that has repaid or prepaid an insured, direct or guaranteed loan under the Act, or any not-for-profit utility that is eligible to receive an insured or direct loan under such Act shall be eligible for assistance under section 313(b)(2)(B) of such Act in the same manner as a borrower under such Act. All other restrictions in this Notice will apply.

B. Cost Sharing or Matching

For loans, either the Ultimate Recipient or the Intermediary must provide supplemental funds for the project equal to at least 20 percent of the loan to the Intermediary. For grants, the Intermediary must establish a Revolving Loan Fund and contribute an amount equal to at least 20 percent of the Grant. The supplemental contribution must come from Intermediary's funds which may not be from other Federal Grants, unless permitted by law.

C. Other Eligibility Requirements

Applications will only be accepted for projects that promote rural economic development and job creation.

D. Completeness Eligibility

Applications will not be considered for funding if they do not provide sufficient information to determine eligibility or are missing required elements.

IV. Fiscal Year 2015 Application and Submission Information:

A. Address To Request Application Package

For further information, entities wishing to apply for assistance should contact the Rural Development State Office identified in this Notice to obtain copies of the application package.

Applicants are encouraged to submit grant applications through the Grants.gov Web site at: http://www.grants.gov. Grant applications may be submitted in either electronic or paper format. Loan applications must be submitted via paper to the State Office. Applications may not be submitted by electronic mail.

• When you enter the Grants.gov Web site, you will find information about submitting an application electronically through the site, as well as the hours of operation. USDA Rural Development strongly recommends that you do not wait until the application deadline date to begin the application process through Grants.gov. To use Grants.gov, applicants must have a Dun and Bradstreet Data Universal Numbering System (DUNS) number which can be obtained at no cost via a toll-free request line at 1-866-705-5711 or at http://fedgov.dnb.com/webform.

• You may submit all documents electronically through the Web site, including all information typically included on the application for REDLGs and all necessary assurances and certifications.

• After electronically submitting an application through the Web site, the applicant will receive an automatic acknowledgement from Grants.gov that contains a Grants.gov tracking number.

• USDA Rural Development may request that the applicant provide original signatures on forms at a later date.

• If applicants experience technical difficulties on the closing date and are unable to meet the deadline, you may submit a paper copy of your application to your respective Rural Development State Office. Paper applications submitted to a Rural Development State Office must meet the closing date and local time deadline.

• Please note that applicants must locate the downloadable application package for this program by the Catalog of Federal Domestic Assistance Number or FedGrants Funding Opportunity Number, which can be found at http://www.grants.gov.

B. Content and Form of Submission

An application must contain all of the required elements. Each selection priority criterion outlined in 7 CFR 4280.42(b) must be addressed in the application. Failure to address any of the criteria will result in a zero-point score for that criterion and will impact the overall evaluation of the application. Copies of 7 CFR part 4280, subpart A, will be provided to any interested applicant making a request to a Rural Development State Office. An original copy of the application must be filed with the Rural Development State Office for the State where the Intermediary is located.

C. Submission Dates and Times

Application Dates: No later than 4:30 p.m. (local time) on the last business day of each month to be considered for funding in the following month.

Explanation of Dates: Applications must be in the USDA Rural Development State Office by the dates as indicated above.

V. Application Review Information

A. Criteria

All eligible and complete applications will be evaluated and scored based on the selection criteria and weights contained in 7 CFR part 4280, subpart A. Failure to address any one of the criteria by the application deadline will result in the application being determined ineligible, and the application will not be considered for funding.

Rural Development is encouraging applications for projects that will support rural areas where according to the American Community Survey data by census tracts show at least 20 percent of the population is living in rural poverty. This emphasis will support Rural Development's mission of improving the quality of life for Rural Americans and commitment to directing resources to those who most need them.

B. Review and Selection Process

The State Offices will review applications to determine if they are eligible for assistance based on requirements contained in 7 CFR part 4280, subpart A. If determined eligible, your application will be submitted to the National Office. Funding of projects is subject to the Intermediary's satisfactory submission of the additional items required by that subpart and the USDA Rural Development Letter of Conditions.

VI. Award Administration Information

A. Award Notices

Successful applicants will receive notification for funding from the Rural Development State Office. Applicants must comply with all applicable statutes and regulations before the loan/grant award can be approved. Provided the application and eligibility requirements have not changed, an application not selected will be reconsidered in three subsequent funding competitions for a total of four competitions. If an application is withdrawn, it can be resubmitted and will be evaluated as a new application.

B. Administrative and National Policy Requirements

Additional requirements that apply to Intermediary's selected for this program can be found in 7 CFR part 4280, subpart A. The U.S. Department of Agriculture and the Agency are adopting the new U.S. Department of Agriculture grant regulation at 2 CFR chapter IV. This regulation incorporates the new Office of Management and Budget (OMB) regulations 2 CFR 200 and 2 CFR 400.1 to 400.18 for monitoring and servicing REDLG funding.

C. Reporting

In addition to any reports required by 2 CFR 200 and 2 CFR 400.1 to 400.18, the Intermediary must provide reports as required by 7 CFR part 4280, subpart A.

VII. Agency Contacts

For general questions about this announcement, please contact your USDA Rural Development State Office provided in the ADDRESSES section of this Notice.

VIII. Paperwork Reduction Act

In accordance with the Paperwork Reduction Act of 1995, the information collection requirement contained in this Notice is approved by OMB under OMB Control Number 0570-0024.

IX. National Environmental Policy Act

This Notice has been reviewed in accordance with 7 CFR part 1940, subpart G, “Environmental Program.” Rural Development has determined that the Environmental Impact Statement is not required because the issuance of regulations and instructions, as well as amendments to them, describing administrative and financial procedures for processing, approving, and implementing the Agency's financial programs is categorically excluded in the Agency's National Environmental Policy Act (NEPA) regulation found at 7 CFR part 1940.310(e)(3) of Subpart G, Environmental Program. Thus, in accordance with the NEPA of 1969 (42 U.S.C. 4321-4347), Rural Development has determined that this notice does not constitute a major Federal action significantly affecting the quality of the human environment; however, Rural Development will conduct individual NEPA analyses on a project-by-project basis whenever warranted.

X. Federal Funding Accountability and Transparency Act

All applicants, in accordance with 2 CFR part 25, must have a DUNS number, which can be obtained at no cost via a toll-free request line at 1-866-705-5711 or online at http://fedgov.dnb.com/webform. Similarly, all grant applicants must be registered in the System for Award Management (SAM) prior to submitting an application. Applicants may register for the SAM at http://www.sam.gov. All recipients of Federal financial grant assistance are required to report information about first-tier sub-awards and executive total compensation in accordance with 2 CFR part 170.

XI. Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and wish to file either an EEO or program complaint may contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: February 27, 2015.
Lillian E. Salerno,
Administrator, Rural Business—Cooperative Service.

[FR Doc. 2015-05525 Filed 3-10-15; 8:45 am]

BILLING CODE 3410-XY-P